NATIONAL TRANSPORTATION SAFETY BOARD

Sunshine Act Meeting

Time and Date: 8:30 a.m., Wednesday, February 18, 2009.

Place: NTSB Conference Center, 429 L'Enfant Plaza, SW., Washington, DC 20594.

Status: The one item is open to the public.

Matter to be Considered:

7976B, Marine Accident Report—Allision of Hong Kong-Registered Containership M/V Cosco Busan with the Delta Tower of the San Francisco-Oakland Bay Bridge, San Francisco, California, November 7, 2007.

News Media Contact: Telephone: (202) 314-6100.

Individuals requesting specific accommodations should contact Rochelle Hall at (202) 314-6305 by Friday, February 13, 2009.

The public may view the meeting via a live or archived Webcast by accessing a link under “News & Events” on the NTSB home page at http://www.ntsb.gov.

FOR FURTHER INFORMATION CONTACT: Vicky D'Onofrio, (202) 314-6410.

Dated: February 6, 2009.
Vicky D'Onofrio,
Federal Register Liaison Officer.

[FR Doc. E9-2951 Filed 2-9-09; 11:15 am]

BILLING CODE 7533-01-P